DEPARTMENT OF EDUCATION

Privacy Act of 1974; System of Records—Impact Evaluation of Data-Driven Instruction Professional Development for Teachers

AGENCY: Institute of Education Sciences, Department of Education.

ACTION: Notice of a new system of records.

SUMMARY: In accordance with the Privacy Act of 1974, as amended (Privacy Act), the Department of Education (Department) publishes this notice of a new system of records entitled “Impact Evaluation of Data-Driven Instruction Professional Development for Teachers” (#18-13-39). The National Center for Education Evaluation and Regional Assistance at the Department's Institute of Education Sciences (IES) awarded a contract in September 2012 to Mathematica Policy Research, Abt Associates, Synergy Enterprises, Evidence-Based Education Research & Evaluation, and Public Consulting Group Education—Focus on Results to provide evidence on the effectiveness of data-driven instruction professional development.

DATES: Submit your comments on this proposed new system of records on or before January 4, 2016.

The Department filed a report describing the new system of records covered by this notice with the Chair of the Senate Committee on Homeland Security and Governmental Affairs, the Chair of the House Committee on Oversight and Government Reform, and the Administrator of the Office of Information and Regulatory Affairs, Office of Management and Budget (OMB) on November 20, 2015. This system of records will become effective on the later date of: (1) The expiration of the 40-day period for OMB review on January 2, 2016, unless OMB waives 10 days of the 40-day review period for compelling reasons shown by the Department, or (2) January 4, 2016, unless the system of records needs to be changed as a result of public comment or OMB review. The Department will publish any changes to the system of records or routine uses that result from public comment or OMB review.

ADDRESSES: Submit your comments through the Federal eRulemaking Portal or via postal mail, commercial delivery, or hand delivery. We will not accept comments submitted by fax or by email or those submitted after the comment period. To ensure that we do not receive duplicate copies, please submit your comments only once. In addition, please include the Docket ID and the term “Impact Evaluation of Data-Driven Instruction Professional Development for Teachers” at the top of your comments.

• Federal eRulemaking Portal: Go to www.regulations.gov to submit your comments electronically. Information on using Regulations.gov, including instructions for accessing agency documents, submitting comments, and viewing the docket, is available on the site under “Are you new to the site.”

• Postal Mail, Commercial Delivery, or Hand Delivery: If you mail or deliver your comments about these proposed priorities, requirements, definitions, and selection criterion address them to: Dr. Audrey Pendleton, Associate Commissioner, Evaluation Division, National Center for Education Evaluation and Regional Assistance, Institute of Education Sciences, U.S. Department of Education, 555 New Jersey Avenue NW., Room 502D, Washington, DC 20208-0001.

Privacy Note: The Department's policy is to make all comments received from members of the public available for public viewing in their entirety on the Federal eRulemaking Portal at www.regulations.gov. Therefore, commenters should be careful to include in their comments only information that they wish to make publicly available.

Assistance to Individuals With Disabilities in Reviewing the Rulemaking Record

On request we will provide an appropriate accommodation or auxiliary aid to an individual with a disability who needs assistance to review the comments or other documents in the public rulemaking record for this notice. If you want to schedule an appointment for this type of accommodation or aid, please contact the person listed under FOR FURTHER INFORMATION CONTACT.

FOR FURTHER INFORMATION CONTACT: Dr. Audrey Pendleton, Associate Commissioner, Evaluation Division, National Center for Education Evaluation and Regional Assistance, Institute of Education Sciences, U.S. Department of Education, 555 New Jersey Avenue NW., Room 502D, Washington, DC 20208-0001. Telephone: (202) 208-7078.

If you use a telecommunications device for the deaf (TDD) or a text telephone (TTY), you may call the Federal Relay Service (FRS), toll free, at 1-800-877-8339.

Individuals with disabilities can obtain this document in an accessible format (e.g., braille, large print, audiotape, or compact disc) on request to the contact person listed in this section.

SUPPLEMENTARY INFORMATION:

Introduction

The Privacy Act (5 U.S.C. 552a(e)(4) and (e)(11)) requires the Department to publish in the Federal Register this notice of a new system of records maintained by the Department. The Department's regulations implementing the Privacy Act are contained in part 5b of title 34 of the Code of Federal Regulations (CFR).

The Privacy Act applies to any record about an individual that is maintained in a system of records from which individually identifying information is retrieved by a unique identifier associated with each individual, such as a name or Social Security Number (SSN). The information about each individual is called a “record,” and the system, whether manual or computer-based, is called a “system of records.”

The Privacy Act requires each agency to publish a notice of a system of records in the Federal Register and to prepare and send a report to OMB whenever the agency publishes a new system of records or makes a significant change to an established system of records. Each agency is also required to send copies of the report to the Chair of the Senate Committee on Homeland Security and Governmental Affairs and the Chair of the House Committee on Oversight and Government Reform. These reports are intended to permit an evaluation of the probable effect of the proposal on the privacy rights of individuals.

The system will contain personally identifying information on approximately 12,000 students, 500 teachers, and 104 principals from 104 schools in 12 school districts and will include, but will not necessarily be limited to, data on: (1) for students, standardized math and English/Language Arts test scores, age, sex, race/ethnicity, grade, eligibility for free/reduced-price lunches, English Learner status, individualized education plan status, school enrollment dates, attendance records, and discipline records, and (2) for principals and teachers, individual district identifiers, school assignments, grades and subjects taught, and principal and teacher background characteristics, including age, sex, race/ethnicity, certifications, degrees, years of teaching experience, scores on licensure or certification tests.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: November 23, 2015.
Ruth Curran Neild,
Deputy Director for Policy and Research, Delegated Duties of the Director of the Institute of Education Sciences.

For the reasons discussed in the preamble, the Director of the Institute of Education Sciences, U.S. Department of Education (Department) publishes a notice of a new system of records to read as follows:

SYSTEM NUMBER:

#18-13-39.

SYSTEM NAME:

Impact Evaluation of Data-Driven Instruction Professional Development for Teachers.

SECURITY CLASSIFICATION:

None.

SYSTEM LOCATIONS:

(1) Evaluation Division, National Center for Education Evaluation and Regional Assistance, Institute of Education Sciences (IES), U.S. Department of Education, 555 New Jersey Avenue NW., Room 502D, Washington, DC 20208-0001.

(2) Mathematica Policy Research, P.O. Box 2393, Princeton, NJ 08543-2393 (contractor).

(3) Abt Associates, 55 Wheeler Street, Cambridge MA 02138-1168 (sub-contractor).

(4) Synergy Enterprises, 8757 Georgia Avenue, Suite 1440, Silver Spring, MD 20910 (sub-contractor).

(5) Evidence-Based Education Research & Evaluation, 34 Washburn Avenue, Cambridge, MD 02140 (sub-contractor).

(6) Public Consulting Group Education—Focus on Results, 148 State Street, Boston, MA 02109 (sub-contractor).

CATEGORIES OF INDIVIDUALS COVERED BY THE SYSTEM:

The system of records will include personally identifying information about the students, teachers, and principals who participate in the study. The system will contain records on approximately 12,000 students, 500 teachers, and 104 principals from 104 schools in 12 school districts.

CATEGORIES OF RECORDS IN THE SYSTEM:

For students, this information will include, but will not necessarily be limited to, standardized math and English/Language Arts test scores, age, sex, race/ethnicity, grade, eligibility for free/reduced-price lunches, English Learner status, individualized education plan status, school enrollment dates, attendance records, and discipline records. For principals and teachers, this information will include, but will not necessarily be limited to, individual district identifiers, school assignments, grades and subjects taught, and principal and teacher background characteristics, including age, sex, race/ethnicity, certifications, degrees, years of teaching experience, and scores on licensure or certification tests.

AUTHORITY FOR MAINTENANCE OF THE SYSTEM:

The study is authorized under sections 2121-2123 of the Elementary and Secondary Education Act of 1965, as amended (ESEA) (20 U.S.C. 6621-6623), section 9601 of the ESEA (20 U.S.C. 7941), and section 171(b) of the Education Sciences Reform Act of 2002 (ESRA) (20 U.S.C. 9561).

PURPOSE(S):

The information contained in the records maintained in this system will be used to conduct a rigorous study of the effectiveness of providing data-driven instruction professional development to teachers and principals.

The study will address the following central research question: What are the impacts of data-driven instruction professional development on student achievement, teachers' instructional strategies, and school supports for using data? Secondary research questions for the study are: How are schools implementing data-driven instruction? What challenges do schools face in its implementation?

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. The Department may make these disclosures on a case-by-case basis or, if the Department has complied with the computer matching requirements of the Privacy Act of 1974, as amended (Privacy Act), under a computer matching agreement. Any disclosure of individually identifiable information from a record in this system must also comply with the requirements of section 183 of the ESRA (20 U.S.C. 9573) providing for confidentiality standards that apply to all collection, reporting, and publication of data by the Institute of Education Sciences. Any disclosure of personally identifiable information from student education records that were obtained from schools or school districts must also comply with the requirements of the Family Educational Rights and Privacy Act (20 U.S.C. 1232g; 34 CFR part 99), which protects the privacy of student education records.

Contract Disclosure. If the Department contracts with an entity to perform any function that requires disclosing records in this system to the contractor's employees, the Department may disclose the records to those employees who have received the appropriate level of security clearance from the Department. Before entering into such a contract, the Department will require the contractor to establish and maintain the safeguards required under the Privacy Act (5 U.S.C. 552a(m)) with respect to the records in the system.

DISCLOSURE TO CONSUMER REPORTING AGENCIES:

None.

POLICIES AND PRACTICES FOR STORING, RETRIEVING, ACCESSING, RETAINING, AND DISPOSING OF RECORDS IN THE SYSTEM:

STORAGE:

The Department will maintain records on CD-ROM, and the contractor and sub-contractors will maintain data for this system on computers and in hard copy.

RETRIEVABILITY:

Records in this system will be indexed and retrieved by a unique number assigned to each individual that will be cross-referenced by the individual's name on a separate list.

SAFEGUARDS:

All physical access to the Department's site and to the site of the Department's contractor and sub-contractors, where this system of records will be maintained, will be controlled and monitored by security personnel. The computer system employed by the Department offers a high degree of resistance to tampering and circumvention. This security system limits data access to Department and contract staff on a need-to-know basis and controls individual users' ability to access and alter records within the system.

The contractor will establish similar procedures at its site to ensure confidentiality of data. The contractor is required to ensure that information identifying individuals is in files physically separated from other research data and electronic files identifying individuals are separated from other electronic research data files. The contractor will maintain security of all master data files and documentation. Access to individually identifiable data will be strictly controlled. All information will be kept in locked file cabinets during nonworking hours, and work on hardcopy data will take place in a single room, except for data entry.

Physical security of electronic data will be also maintained. Security features that protect project data will include: password-protected accounts that authorize users to use the contractor's system but to access only specific network directories and network software; user rights and directory and file attributes that limit those who can use particular directories and files and determine how they can use them; and additional security features that the network administrators will establish for projects as needed. The Department's and the contractor's employees who “maintain” (collect, maintain, use, or disseminate) data in this system must comply with the requirements of the Privacy Act and the confidentiality standards in section 183 of the ESRA (20 U.S.C. 9573).

RETENTION AND DISPOSAL:

Records are maintained and disposed of in accordance with the Department's Records Disposition Schedules (GRS 23, Item 8).

SYSTEM MANAGER AND ADDRESS:

Associate Commissioner, Evaluation Division, National Center for Education Evaluation and Regional Assistance, Institute of Education Sciences, U.S. Department of Education, 555 New Jersey Avenue NW., Room 502D, Washington, DC 20208-0001.

NOTIFICATION PROCEDURE:

If you wish to determine whether a record exists regarding you in the system of records, contact the system manager. Your request must meet the requirements of the Department's Privacy Act regulations at 34 CFR 5b.5, including proof of identity.

RECORD ACCESS PROCEDURE:

If you wish to gain access to a record about you in this system of records, contact the system manager. Your request must meet the requirements of the Department's Privacy Act regulations at 34 CFR 5b.5, including proof of identity.

CONTESTING RECORD PROCEDURE:

If you wish to contest the content of a record regarding you in the system of records, contact the system manager. Your request must meet the requirements of the Department's Privacy Act regulations at 34 CFR 5b.7, including proof of identity.

RECORD SOURCE CATEGORIES:

This system will contain records on principals, teachers, and students participating in an impact evaluation of data-driven instruction professional development. Data will be obtained from human resource and student administrative records maintained by the schools and school districts, a survey of principals and teachers, and teacher activity logs to document teachers' planning and classroom activities over four school days.

EXEMPTIONS CLAIMED FOR THE SYSTEM:

None.

[FR Doc. 2015-30526 Filed 12-1-15; 8:45 am]

BILLING CODE 4000-01-P